ENVIRONMENTAL PROTECTION AGENCY

[EPA-HQ-OPPT-2020-0078; FRL-12448-01-OMS]

Agency Information Collection Activities Submission to the Office of Management and Budget for Review and Approval; Comment Request; Toxic Chemical Release Reporting (Renewal)

AGENCY: Environmental Protection Agency (EPA).

ACTION: Notice.

SUMMARY: The Environmental Protection Agency (EPA) has submitted an information collection request (ICR), Toxic Chemical Release Reporting, (EPA ICR Number 2613.07, OMB Control Number 2070-0212) to the Office of Management and Budget (OMB) for review and approval in accordance with the Paperwork Reduction Act. This is a proposed extension of the ICR which is currently approved through June 30, 2025. Public comments were previously requested via the Federal Register on September 18, 2024, during a 60-day comment period. This notice allows for an additional 30 days for public comments.

DATES: Comments may be submitted on or before December 27, 2024.

ADDRESSES: Submit your comments, referencing Docket ID Number EPA-HQ-OPPT-2020-0078, to EPA online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460; telephone number: (202) 566-1206; email address: sleasman.katherine@epa.gov.

SUPPLEMENTARY INFORMATION: This is a proposed extension of the ICR which is currently approved through June 30, 2025. An agency may not conduct, or sponsor and a person is not required to respond to a collection of information unless it displays a currently valid OMB control number.

Public comments were previously requested via the Federal Register on September 18, 2024 during a 60-day comment period (89 FR 76470). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Pursuant to section 313 of the Emergency Planning and Community Right-to-Know Act (EPCRA), certain facilities that manufacture, process, or otherwise use specified toxic chemicals in amounts above reporting threshold levels as provided in 40 CFR 372.25 must submit annually to EPA and to their designated state or Indian country officials toxic chemical release forms containing information specified by EPA; (see 42 U.S.C. 11023). In addition, pursuant to section 6607 of the Pollution Prevention Act (PPA), facilities reporting under section 313 of EPCRA must also report pollution prevention and waste management data, including recycling information, for such chemicals; (see 42 U.S.C. 13106). EPA compiles and stores these reports in a publicly accessible database known as the Toxics Release Inventory (TRI). Regulations at 40 CFR part 372, subpart B, require facilities that meet the above criteria to report annually.

This ICR consolidates the following final rule ICRs titled: “Rule-Related ICR Amendment; Changes to Reporting Requirements for Per- and Polyfluoroalkyl Substances; Community Right-to-Know Toxic Chemical Release Reporting, Final Rule (RIN 2070-AK97)” (OMB Control Number 2070-0225; EPA ICR Number 2724.02), “Addition of Natural Gas Processing Facilities to the Toxics Release Inventory (TRI) (Final Rule)” (OMB Control Number 2070-0206; EPA ICR Number 2560.02); and “Parent Company Definition for TRI Reporting (Final Rule)” (OMB Control Number 2070-0216; EPA ICR Numer 2597.02) into this renewal ICR. Upon OMB approval of this ICR, EPA intends to discontinue OMB Control Numbers 2070-0225, 2070-0206, and 2070-0216.

Form numbers: 9350-1, 9350-2, and 9350-3.

Respondents/affected entities: Entities potentially affected are those that apply to owners and operators of facilities covered under EPCRA section 313(a). EPCRA section 313(a) includes facilities that meet the following three criteria: have 10 or more full-time employee equivalents (i.e., a total of 20,000 hours worked per year or greater; see 40 CFR 372.3). The full list of potentially affected entities by North American Industry Classification System (NAICS) codes for facilities that must report to TRI (including exemptions and/or limitations), if all other reporting thresholds are met, can be found at 40 CFR 372.23.

Respondent's obligation to respond: Mandatory (40 CFR 372.23).

Estimated number of respondents: 24,742 (total).

Frequency of response: Annual.

Total estimated burden: 3,600,970 hours (per year). Burden is defined at 5 CFR 1320.3(b).

Total estimated cost: $285,304,888 (per year), which includes $0 annualized capital or operation & maintenance costs.

Changes in the estimates: There is an overall average decrease of 698 Form Rs and an increase of 1600 Form As estimated to be submitted to EPA as a result of EPA's exercise of its discretionary authority to apply TRI reporting requirements to 2,990 particular facilities, for specified chemicals. There is a decrease of 15,858 burden hours. This is an adjustment to the estimates.

Courtney Kerwin,
Director, Information Engagement Division.

[FR Doc. 2024-27824 Filed 11-26-24; 8:45 am]

BILLING CODE 6560-50-P